INTERNATIONAL TRADE COMMISSION

[Investigation Nos. 701-TA-671-672 and 731-TA-1571-1573 (Final)]

Oil Country Tubular Goods From Argentina, Mexico, Russia, and South Korea

Determinations

On the basis of the record ¹ developed in the subject investigations, the United States International Trade Commission (“Commission”) determines, pursuant to the Tariff Act of 1930 (“the Act”), that an industry in the United States is materially injured by reason of imports of oil country tubular goods from Argentina and Mexico provided for in subheadings 7304.29, 7305.20, and 7306.29 of the Harmonized Tariff Schedule of the United States, that have been found by the U.S. Department of Commerce (“Commerce”) to be sold in the United States at less than fair value (“LTFV”); by reason of imports of oil country tubular goods from Russia that have been found by Commerce to be sold in the United States at LTFV and subsidized by the government of Russia; and by reason of imports of oil country tubular goods from South Korea that have been found by Commerce to be subsidized by the government of South Korea.2 3

¹ The record is defined in § 207.2(f) of the Commission's Rules of Practice and Procedure (19 CFR 207.2(f)).

² 87 FR 59041, 59045, 59047, 59054, and 59056 (September 29, 2022).

³ The Commission also finds that imports subject to Commerce's affirmative critical circumstances determinations are not likely to undermine seriously the remedial effect of the antidumping duty orders on oil country tubular goods from Mexico and Russia.

Background

The Commission instituted these investigations effective October 6, 2021, following receipt of petitions filed with the Commission and Commerce by Borusan Mannesmann Pipe U.S., Inc., Baytown, Texas; PTC Liberty Tubulars LLC, Liberty, Texas; U.S. Steel Tubular Products, Inc., Pittsburgh, Pennsylvania; Welded Tube USA, Inc., Lackawanna, New York; and the United States Steel, Paper and Forestry, Rubber, Manufacturing, Energy, Allied Industrial and Service Workers International Union, AFL-CIO, CLC, Pittsburgh, Pennsylvania. The final phase of the investigations was scheduled by the Commission following notification of a preliminary determination by Commerce that imports of oil country tubular goods from Russia were subsidized within the meaning of section 703(b) of the Act (19 U.S.C. 1671b(b)) and preliminary determinations by Commerce that imports of oil country tubular goods from Argentina, Mexico, and Russia were sold at LTFV within the meaning of 733(b) of the Act (19 U.S.C. 1673b(b)).⁴ Notice of the scheduling of the final phase of the Commission's investigations and of a public hearing to be held in connection therewith was given by posting copies of the notice in the Office of the Secretary, U.S. International Trade Commission, Washington, DC, and by publishing the notice in the Federal Register on June 9, 2022 (87 FR 35246). The Commission conducted its hearing on September 22, 2022. All persons who requested the opportunity were permitted to participate.

⁴ 87 FR 28801, 28804, and 28808 (May 11, 2022) (antidumping duty preliminary determinations) and 87 FR 14249 (March 14, 2022) (countervailing duty preliminary determination for Russia). Commerce preliminarily determined that countervailable subsidies were not being provided to producers and exporters of oil country tubular goods from South Korea. 87 FR 14248 (March 14, 2022) (countervailing duty preliminary determination for South Korea).

The Commission made these determinations pursuant to §§ 705(b) and 735(b) of the Act (19 U.S.C. 1671d(b) and 19 U.S.C. 1673d(b)). It completed and filed its determinations in these investigations on November 14, 2022. The views of the Commission are contained in USITC Publication 5381 (November 2022), entitled Oil Country Tubular Goods from Argentina, Mexico, Russia, and South Korea: Investigation Nos. 701-TA-671-672 and 731-TA-1571-1573 (Final).

By order of the Commission.
Issued: November 14, 2022.
Jessica Mullan,
Attorney Advisor.

[FR Doc. 2022-25109 Filed 11-17-22; 8:45 am]

BILLING CODE 7020-02-P